DEPARTMENT OF TRANSPORTATION

Federal Railroad Administration

[Docket Number FRA-2008-0065]

Petition for Extension of Special Approval

Under part 211 of title 49 Code of Federal Regulations (CFR), this document provides the public notice that on July 24, 2021, the Maryland Department of Transportation Maryland Transit Administration MARC Train Service (MACZ) petitioned the Federal Railroad Administration (FRA) to extend a special approval of an alternate standard for periodic brake equipment maintenance, pursuant to 49 CFR 238.309(a)(2). The relevant FRA Docket Number is FRA-2008-0065.

Specifically, MACZ requests to continuing applying alternate standards for the CCB-KE-3.9 air brake system of the MARC HHP-8 locomotive fleet. This alternate standard to 49 CFR 229.29(e) and 238.309(a)(2) is to allow for the level two and level three maintenance intervals to be 2,944 days (8 years). MACZ explains its request is based on the successful history of the special approval, as well as the results of an age exploration study for the HHP-8 air brake system as outlined in Docket Numbers FRA-2008-0065 and FRA-2001-10596. The locomotives are expected to continue in passenger service for MACZ, operated and maintained by Amtrak on the Northeast Corridor, for the foreseeable future.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation (DOT), 1200 New Jersey Ave. SE, W12-140, Washington, DC 20590.

Communications received by September 27, 2021 will be considered by FRA before final action is taken. Comments received after that date will be considered if practicable. Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety Chief Safety Officer.

[FR Doc. 2021-17120 Filed 8-10-21; 8:45 am]

BILLING CODE 4910-06-P